DEPARTMENT OF COMMERCE

National Oceanic and Atmospheric Administration

50 CFR Parts 600 and 622

[Docket No. 110422261-1261-01]

RIN 0648-BA70

Fisheries of the Caribbean, Gulf of Mexico, and South Atlantic; Snapper-Grouper Fishery of the South Atlantic; Snapper-Grouper Management Measures

AGENCY: National Marine Fisheries Service (NMFS), National Oceanic and Atmospheric Administration (NOAA), Commerce.

ACTION: Proposed rule; request for comments.

SUMMARY: NMFS issues this proposed rule to implement actions identified in a regulatory amendment (Regulatory Amendment 9) to the Fishery Management Plan for the Snapper-Grouper Fishery of the South Atlantic Region (FMP) prepared by the South Atlantic Fishery Management Council (Council). This proposed rule would reduce the recreational bag limit for black sea bass, establish a split season for the black sea bass commercial quota, increase the commercial trip limit for greater amberjack, and establish commercial trip limits for vermilion snapper and gag. This rule also proposes a minor revision to the mailing address for the NMFS Southeast Regional Administrator (RA). The intended effect of this proposed rule is to help prevent overfishing of black sea bass, gag, and vermilion snapper while achieving optimum yield (OY) by reducing the rate of harvest of these three species, to achieve OY for greater amberjack, and to implement a technical correction to the regulations.

DATES: Written comments must be received on or before May 16, 2011.

ADDRESSES: You may submit comments on the proposed rule identified by 0648-BA07 by any of the following methods:

• Electronic submissions: Submit electronic comments via the Federal e-Rulemaking Portal: http://www.regulations.gov. Follow the instructions for submitting comments.

• Mail: Kate Michie, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

To submit comments through the Federal e-rulemaking portal: http://www.regulations.gov, enter ” NOAA-NMFS-2011-0107 ” in the keyword search, then check the box labeled “Select to find documents accepting comments or submissions”, the select “Send a comment or submission”. NMFS will accept anonymous comments (enter N/A in the required field if you wish to remain anonymous). You may submit attachments to electronic comments in Microsoft Word, Excel, WordPerfect, or Adobe PDF file formats only.

Comments received through means not specified in this rule will not be considered.

Copies of the regulatory amendment, which includes an environmental assessment and a regulatory impact review, may be obtained from the South Atlantic Fishery Management Council, 4055 Faber Place Drive, Suite 201, North Charleston, SC 29405; telephone 843-571-4366; fax 843-769-4520; e-mail safmc@safmc.net; or may be downloaded from the Council's Web site at http://www.safmc.net/.

FOR FURTHER INFORMATION CONTACT: Kate Michie, 727-824-5305.

SUPPLEMENTARY INFORMATION: The snapper-grouper fishery of the South Atlantic is managed under the FMP. The FMP was prepared by the Council and is implemented through regulations at 50 CFR part 622 under the authority of the Magnuson-Stevens Fishery Conservation and Management Act (Magnuson-Stevens Act).

Background

The Magnuson-Stevens Act requires NMFS and regional fishery management councils to prevent overfishing and achieve, on a continuing basis, the OY from federally managed fish stocks. These mandates are intended to ensure fishery resources are managed for the greatest overall benefit to the nation, particularly with respect to providing food production and recreational opportunities, and protecting marine ecosystems. To further this goal, the Magnuson-Stevens Act requires fishery managers to end overfishing of stocks while achieving OY from the fishery, and to minimize bycatch and bycatch mortality to the extent practicable.

The snapper-grouper fishery in the South Atlantic is managed through a variety of measures to achieve OY for many species, including black sea bass, gag, and vermilion snapper. These measures include restrictions on the total harvest, recreational and commercial allocations, recreational and commercial annual catch limits (ACLs), and accountability measures (AMs). As overfishing is ended for an overfished stock, and biomass increases, a species specific ACL is likely to be met earlier each fishing season as a result of the increased availability of the stock for harvest. This can lead to an increased likelihood of derby-style harvesting, which is undesirable from economic, vessel safety, and social perspectives. Derby-style harvesting, also termed as “the race for fish”, consists of a short duration of increased effort where harvest is maximized prior to reaching an ACL. Additionally, since the commercial quota for greater amberjack is not being met on an annual basis, OY for this species is not being achieved. To address these issues, the Council requested the development of Regulatory Amendment 9, at its March 2010 meeting.

An increasingly restrictive regulatory environment has resulted in a shift of fishing effort from other more restricted snapper-grouper species to the commercial and recreational sectors for black sea bass and vermilion snapper, which results in reaching their respective quotas relatively early in their fishing seasons. In order to prevent the progressive shortening of fishing seasons for black sea bass, gag, and vermilion snapper, and to maximize the probability of achieving OY for greater amberjack, the Council voted to approve Regulatory Amendment 9 at its March 2011 meeting.

Management Measures Contained in this Proposed Rule

This proposed rule would reduce the black sea bass recreational bag limit; establish a split season commercial quota for black sea bass; revise the commercial trip limit for greater amberjack; and establish commercial trip limits for vermilion snapper and gag. Additionally, this proposed rule would make a minor revision to the codified text to correct an address for the RA.

Black Sea Bass Recreational Bag Limit

Black sea bass is overfished and undergoing overfishing and is managed under a rebuilding plan. Recreational management measures to rebuild the stock are currently in place and include a recreational ACL of 409,000 lb (185,519 kg), a 15-fish per person daily bag limit, and a size limit. The recreational sector for black sea bass also has AMs in place to monitor the ACL with respect to average landings, to prohibit recreational harvest if the ACL is exceeded, and to require an ACL reduction the fishing year following an ACL overage. The Council voted to address the progressive shortening of the black sea bass recreational fishing season by implementing management measures intended to slow the rate of harvest to allow for a longer fishing season. For the recreational sector, this proposed rule would reduce the bag limit from 15-fish per person per day to 5-fish per person per day. This bag limit reduction is projected to lengthen the recreational fishing season by approximately 1 month or more.

Black Sea Bass Commercial Quota

In an effort to end overfishing, the black sea bass commercial quota has been reduced in recent years. Effort shifts from other snapper-grouper species to the black sea bass component of the snapper-grouper fishery, as well as the reduced commercial quota of 309,000 lb (140,160 kg), have resulted in the commercial quota being met earlier in the fishing year. For example, during the June 2009 through May 2010 fishing year, the commercial sector was closed on December 20, 2009. For the June 2010 through May 2011 fishing year, the commercial sector was closed on October 7, 2010, but reopened for 14 days beginning on December 1, 2010, when subsequent landings data indicated that the quota had not been reached by October 7, 2010.

To address the progressive shortening of the black sea bass commercial fishing season, the Council voted to implement management measures that are intended to slow the rate of harvest to lengthen the fishing season. This proposed rule would split the commercial quota into two 6-month seasons, from June-November and from December-May each year. The commercial quota for the June-November season would be 128,547 lb (58,308 kg), and the commercial quota for the December-May season would be 180,453 lb (81,852 kg). These split season quotas are based on average commercial landings for June through November and December though May for the 2006 through 2009 fishing years. If a portion of the June-November commercial quota remains unharvested by the end of November each year, the unharvested commercial quota will be added to the quota for the December-May season. If a portion of the December-May seasonal commercial quota remains unharvested, the unharvested amount will not be added to either split season commercial quotas for the following fishing year.

Greater Amberjack Commercial Trip Limit

Greater amberjack is not overfished and is not undergoing overfishing. The annual commercial quota for greater amberjack has never been met under the trip limit of 1,000 lb (454 kg) which has been in effect since October of 2000. To increase the probability of achieving OY while maintaining commercial restrictions to prevent quota overages, this proposed rule would increase the current commercial trip limit for greater amberjack from 1,000 lb (454 kg) to 1,200 lb (544 kg). It is expected that increasing the commercial trip limit by 200 lb (91 kg) will increase harvest opportunities within the commercial sector without resulting in significantly reduced market prices.

Vermilion Snapper and Gag Commercial Trip Limits

Amendment 17B to the FMP (75 FR 82280, December 30, 2010), recently implemented management measures for eight South Atlantic snapper-grouper species and is expected to result in fishing effort shifts from other species within the snapper-grouper complex to the black sea bass, vermilion snapper, and gag commercial components of the snapper-grouper fishery. In order to reduce the likelihood of the commercial quotas for vermilion snapper and gag being met early in the fishing year, this proposed rule would establish a trip limit of 1,500 lb (680 kg) for vermilion snapper, and a trip limit of 1,000 lb (454 kg) for gag. These trip limits are expected to slow the rate of harvest of these species, and therefore extend commercial harvest opportunities during the fishing year for vermilion snapper and gag while reducing the risk of commercial quota closures early in the fishing year.

Revision To Update Address for NMFS Regional Administrator

The mailing address for the RA, as listed in Table 1 in § 600.502, is outdated. This rule proposes to revise that section to reflect the current address. This additional measure is unrelated to the actions contained in Regulatory Amendment 9.

Classification

Pursuant to section 304(b)(1)(A) of the Magnuson-Stevens Act, the NMFS Assistant Administrator has determined that this proposed rule is consistent with the regulatory amendment, other provisions of the Magnuson-Stevens Act, and other applicable law, subject to further consideration after public comment.

This proposed rule has been determined to be not significant for purposes of Executive Order 12866.

NMFS prepared an Initial Regulatory Flexibility Analysis (IRFA), as required by section 603 of the Regulatory Flexibility Act, for this proposed rule. The IRFA describes the economic impact that this proposed rule, if adopted, would have on small entities. A description of the action, why it is being considered, and the objectives of, and legal basis for this action are contained at the beginning of this section in the preamble and in the SUMMARY section of the preamble. A copy of the full analysis is available from the Council (see ADDRESSES). A summary of the IRFA follows.

The Magnuson-Stevens Act provides the statutory basis for the proposed rule. No duplicative, overlapping, or conflicting Federal rules have been identified. The proposed rule would not establish any new reporting, record-keeping, or other compliance requirements.

The proposed rule is expected to directly affect commercial harvesting and for-hire fishing operations. The Small Business Administration has established size criteria for all major industry sectors in the U.S. including fish harvesters and for-hire operations. A business involved in fish harvesting is classified as a small business if it is independently owned and operated, is not dominant in its field of operation (including its affiliates), and has combined annual receipts not in excess of $4.0 million (NAICS code 114111, finfish fishing) for all its affiliated operations worldwide. For for-hire vessels, the same qualifiers that apply to fish harvesting would apply, but the annual receipts threshold is $7.0 million (NAICS code 713990, recreational industries).

From 2007-2009, an average of 895 vessels-per-year had valid permits to operate in the commercial sector of the snapper-grouper fishery. Of these 895 vessels, 751 held transferable permits and 144 held non-transferable permits. On average, 797 vessels landed snapper-grouper species, generating dockside revenues of approximately $14.514 million (2008 dollars). Each vessel, therefore, generated an average of approximately $18,000 annually in gross revenues from snapper-grouper commercial landings. Gross dockside revenues by state are distributed as follows: $4.054 million in North Carolina, $2.563 million in South Carolina, $1.738 million in Georgia/Northeast Florida, $3.461 million in central and southeast Florida, and $2.695 million in the Florida Keys. Vessels that operate in the snapper-grouper commercial sector may also operate in other fisheries; the revenues from the other fisheries cannot be determined with available data and thus are not reflected in these totals.

Based on revenue information, all commercial vessels affected by the proposed rule can be considered small entities.

From 2007-2009, an average of 1,797 vessels had valid permits to operate in the for-hire component of the snapper-grouper fishery. Of the 1,797 vessels, 82 are estimated to have operated as headboats. The for-hire fleet is comprised of charterboats, which charge a fee on a vessel basis, and headboats, which charge a fee on an individual angler (head) basis. The charterboat annual average gross revenue is estimated to range from approximately $62,000-$84,000 for Florida vessels, $73,000-$89,000 for North Carolina vessels, $68,000-$83,000 for Georgia vessels, and $32,000-$39,000 for South Carolina vessels. For headboats, the corresponding estimates are $170,000-$362,000 for Florida vessels, and $149,000-$317,000 for vessels in the other states.

Based on these average revenue figures, all for-hire operations that would be affected by the proposed rule can be considered small entities.

Some fleet activity, i.e., multiple vessels owned by a single entity, may exist in both the commercial and for-hire snapper-grouper sectors but its extent is unknown, and therefore all vessels are treated as independent entities in this analysis.

The proposed rule is expected to directly affect all federally permitted commercial and for-hire vessels that operate in the South Atlantic snapper-grouper fishery. All directly affected entities have been determined, for the purpose of this analysis, to be small entities. Therefore, it is determined that the proposed action would affect a substantial number of small entities.

Because all entities that are expected to be affected by the proposed rule are considered small entities, the issue of disproportional effects on small versus large entities does not arise in the present case.

A qualitative discussion of the effects of splitting the black sea bass commercial quota between the June-November and December-May sub-seasons indicates that profits to the commercial fishing fleet would not deteriorate, as would occur under the no action alternative of maintaining a single quota for the entire fishing year, because the split season quota would break up any derby-style harvesting and thus potentially maintain relatively higher dockside prices via a longer fishing season.

Relative to the no action alternative, the proposed action to reduce the recreational bag limit to five black sea bass per person-per-day is expected to increase short-term for-hire vessel profits (net operating revenues (NOR)) annually from approximately $78,000 to $164,000 assuming no trip cancellation during the open season, or from approximately $45,000 to $131,000 assuming some trip cancellations during the open season. This expected increase in short-term profits would come from a reduced recreational quota closure duration relative to the no action alternative.

The proposed action to establish a 1,500-lb (680-kg) commercial trip limit for vermilion snapper is expected to reduce the gross revenues of commercial vessels by approximately $306,000 annually. Profits would be reduced accordingly. Among the trip limit alternatives, however, the proposed action is expected to result in the lowest revenue losses. Commercial fishing vessels in North Carolina and Georgia/Northeast Florida would experience the largest revenue losses compared to those of other states/areas in the South Atlantic.

The proposed action to establish a 1,000-lb (454-kg) commercial trip limit for gag is expected to reduce the short-term gross revenues of the commercial fishing fleet by approximately $102,000 annually. Short-term fleet profits are also expected to decrease. However, relative to the no action alternative, the proposed action is expected to lengthen the commercial season so that revenues and profits could increase over time. The largest short-term revenue (and profit) reductions would fall on vessels in South Carolina and Georgia/Northeast Florida.

The proposed action to increase the commercial trip limit for greater amberjack to 1,200 lb (544 kg) is expected to increase short-term gross revenues of commercial vessels. Short-term profits are also expected to increase. Over time, the net result on vessel revenues and profits would depend on the resulting fishing season length under the higher trip limit.

Thirteen alternatives, including two alternatives for the proposed action, were considered for the harvest management of black sea bass. The first alternative to the proposed action is the no action alternative. This alternative would not address the derby concern in the commercial sector of the black sea bass segment of the snapper-grouper fishery. The second alternative to the proposed action would establish a commercial trip limit, with 8 sub-alternatives. The first sub-alternative would be a 500-lb (227-kg) trip limit; the second, a 750-lb (340-kg) trip limit; the third, a 1,000-lb (454-kg) trip limit; the fourth, a 1,250-lb (567-kg) trip limit; the fifth, a 1,000-lb (454-kg) trip limit but reduced to 500-lb (227-kg) when 75 percent of the quota is met; the sixth, a 2,000-lb (907-kg) trip limit; the seventh, a 2,500-lb (1,134-kg) trip limit; and, the eighth, a 340-lb (154-kg) trip limit. Based on the input received during public hearings, from the Council's Advisory Panel, from the Council's Scientific and Statistical Committee, and the fact that the stock is undergoing an assessment through the Southeast Data, Assessment, and Review (SEDAR 25), the results of which will be available by the end of 2011, the Council chose not to implement trip limits for the black sea bass commercial sector at this time. The Council concluded the preferred alternative best meets the purpose and need to prevent the progressive shortening of the fishing season while ensuring equity in harvest opportunities, promoting safety at sea, and minimizing adverse socioeconomic impacts.

The third alternative to the proposed action would retain the fishing year (June 1 through May 31) and specify separate commercial quotas for the June-December and the January-May sub-seasons based on 2006-2009 landings. This is similar to the proposed action, except that the first sub-season ends in December, with January being the starting month of the second sub-season. The effects of this alternative on small entities are comparatively the same as those of the proposed action, except that the proposed action would allow the second sub-season to start, with available quota, at the time when the traditional winter pot component of the commercial sector takes place in December.

The fourth alternative to the proposed action would change the black sea bass fishing year to November-October and specify separate commercial quotas for November-April and May-October. The Council recognized the distributional effects of changing the fishing year, and decided to address this issue, together with a regional approach to management of black sea bass, after the SEDAR 25 assessment is completed in late 2011.

The fifth alternative to the proposed action would change the black sea bass fishing year to January-December and specify separate commercial quotas for January-June and July-December. This alternative raises the same issue as the fourth alternative to the proposed action for which the Council decided to consider the fishing year issue, together with regional approach to management, in the future.

The sixth alternative would add to alternatives two through five of the proposed action, a measure that would allow a carry-over of unused portion of the quota from the second part of the fishing year to the next fishing year. This alternative has the potential to result in exceeding the commercial quota for the next year that would trigger application of AMs, resulting in revenue and profit losses to the commercial fishing fleet. In addition, this alternative could result in exceeding other fishery benchmarks and the stock could be considered to experience overfishing. More restrictive regulations could result that would only increase revenue and profit losses to the fishing fleet.

The seventh alternative to the proposed action would add to alternatives two through five a measure that would close the black sea bass commercial pot gear component, but not other allowable gear types, when all but 100,000 lb (45,359 kg) of the commercial quota for the sub-season is harvested and would allow all allowable gear types to operate in the next sub-season. The Council decided not to impose specific gear restriction at this time partly due to the problem of monitoring catches by gear type on a timely basis.

The eighth alternative to the proposed action is similar to the seventh alternative to the proposed action, except that 50,000 lb (22,680 kg) would be the amount of quota remaining to trigger the closure of the black sea bass commercial pot component. The Council decided not to impose specific gear restriction at this time partly due to the problem of monitoring catches by gear type on a timely basis.

The ninth alternative to the proposed action would close the black sea bass commercial pot component when 90 percent of the commercial quota is met. The Council decided not to impose specific gear restrictions at this time partly due to the problem of monitoring catches by gear type on a timely basis.

The tenth alternative to the proposed action would establish a spawning season closure, with four sub-alternatives. The first sub-alternative would implement a March-April closure applicable to both the commercial and recreational sectors; the second, an April-May closure; the third, a March-May closure; and, the fourth, a May closure. A spawning season closure for black sea bass that would affect both the commercial and recreational sectors was considered as a possible tool to extend the fishing season and benefit the stock. However, there was strong opposition from the public toward such a measure given other additional proposed measures within Regulatory Amendment 9. While many fishermen are in favor of curbing harvest during the spawning season, they stated that curbing harvest would be best accomplished with a modification to the fishing year. Moreover, the black sea bass stock is under a rebuilding schedule, there are indications that the stock is rebuilding, and a stock assessment is currently underway.

The eleventh alternative to the proposed action for black sea bass management would modify the current recreational bag limit of 15-fish per person per day for black sea bass, with 5 sub-alternatives, one of which is the proposed action. The first sub-alternative would reduce the bag limit to 7-fish per person per day; the second, 5-fish per person per day; the third, 3-fish per person per day; the fourth, 2-fish per person per day; and the fifth, 1-fish per person per day. Relative to the 15-fish bag limit and depending on the baseline year used, the bag limit alternatives would have varying effects on the annual NOR of the for-hire fleet. The first sub-alternative would result in increased NOR from approximately $19,000 to $129,000 annually; the second sub-alternative would increase NOR from negative $62,000 to positive $48,000 annually; the third sub-alternative would result in a decreased NOR of $97,000 annually; and, the fourth sub-alternative would result in a decreased NOR of $226,000 annually. These effects are less than the positive effects of the proposed action. The Council's decision to recommend the proposed action of a 5-fish bag limit per person per day was based on public support and the fact that a large percentage of recreational trips result in approximately 5 black sea bass landed per person. Moreover, the Council considered this proposed action as an interim measure until results of SEDAR 25 are available.

Seven alternatives, including the proposed action, were considered for commercial vermilion snapper trip limit. The first alternative to the proposed action is the no action alternative. This alternative would not address concerns regarding derby fishing practices in the commercial sector of the vermilion snapper segment of the snapper-grouper fishery. The second alternative to the proposed action would establish a 1,000-lb (454-kg) commercial trip limit, with one sub-alternative that would reduce the trip limit to 500 lb (227 kg) when 75 percent of the commercial quota is met. This alternative would lengthen the commercial fishing season relative to the no action alternative, but it would bring about a reduction in short-term revenues of approximately $611,000 annually without the sub-alternative, or $752,000 annually with the sub-alternative. These reductions are larger than those that would occur under the proposed action. The third alternative to the proposed action would establish a 1,500-lb (680-kg) trip limit, and reduce the trip limit to 500 lb (227 kg) when 75 percent of the commercial quota is met. This alternative would bring about a reduction in short-term revenues of approximately $505,000. This revenue reduction is larger than what would occur under the proposed action. The fourth alternative to the proposed action would establish a 750-lb (340-kg) commercial trip limit, with one sub-alternative that would reduce the commercial trip limit to 400 lb (181 kg) when 75 percent of the commercial quota is met. Compared to the proposed action, this alternative would result in short-term revenue reductions of approximately $880,000 annually without the sub-alternative, or $1,013,000 annually with the sub-alternative. The fifth alternative to the proposed action would establish a 500-lb (227-kg) commercial trip limit. This alternative would result in short-term revenue reductions of approximately $1,302,000 annually, which is much larger than those resulting under the proposed action. The sixth alternative to the proposed action would establish a 400-lb (181-kg) commercial trip limit. Compared to the proposed action, this alternative would result in larger revenue reductions of approximately $1,528,000 annually.

Five alternatives, including the proposed action, were considered for gag commercial trip limit. The first alternative to the proposed action is the no action alternative. This alternative would not address the derby concern in the gag commercial sector the snapper-grouper fishery. The second alternative to the proposed action would establish a 1,000-lb (454-kg) commercial trip limit that would be reduced to a 100-lb (45-kg) trip limit when 75 percent of the commercial quota is projected to be met. This alternative would result in short-term revenue reductions of approximately $392,000 annually when based on 2007 landings, or $204,000 annually when based on 2009 landings.

The third alternative to the proposed action would establish a 750-lb (340-kg) commercial trip limit, with one sub-alternative that would reduce the commercial trip limit to 100 lb (45 kg) when 75 percent of the commercial quota is projected to be met. This alternative would result in short-term revenue reductions of approximately $194,000 annually without the sub-alternative, or from $467,000 annually (based on 2007 landings) to $228,000 (based on 2009 landings) with the sub-alternative. The fourth alternative to the proposed action would establish a 1,000-lb (454-kg) commercial trip limit, with a season starting on May 1, and reduce the trip limit to 100 lb (45 kg) when 90 percent of the gag commercial quota is projected to be met. This alternative would result in revenue reductions greater than $102,000 annually but less than $392,000 annually. All of these alternatives to the proposed action are expected to result in larger short-term revenue reductions than the proposed action.

Two alternatives, including the proposed action, were considered for the greater amberjack commercial trip limit. The first alternative to the proposed action is the no action alternative, which specifies a 1,000-lb (454-kg) commercial trip limit. Under this trip limit alternative, it was considered that the commercial quota for greater amberjack has not been fully taken. A trip limit increase was considered to allow the fishing fleet to harvest the entire commercial quota for greater amberjack in order to mitigate the adverse effects of increased restrictions applied in other fisheries prosecuted by the same fishermen. The second alternative consists of three sub-alternatives, one of which is the proposed action. The first sub-alternative would increase the greater amberjack commercial trip limit to 2,000 lb (907 kg) while the second sub-alternative would increase the greater amberjack commercial trip limit to 1,500 lb (680 kg). Each of these two trip limit alternatives would result in larger short-term revenue increases than the proposed action. However, they pose a higher risk that the commercial quota for greater amberjack would be met prior to the end of the fishing season, resulting in potentially larger revenue and profit reductions to the fishing fleet.

List of Subjects

50 CFR Part 600

Fisheries and Fishing vessels.

50 CFR Part 622

Fisheries, Fishing, Puerto Rico, Reporting and recordkeeping requirements, Virgin Islands.

Dated: April 26, 2011.
John Oliver,
Deputy Assistant Administrator for Operations, National Marine Fisheries Service.

For the reasons set out in the preamble, 50 CFR parts 600 and 622 are proposed to be amended as follows:

PART 600—MAGNUSON-STEVENS ACT PROVISIONS

1. The authority citation for part 600 continues to read as follows:

Authority: 5 U.S.C. 561 and 16 U.S.C. et seq.

2. In § 600.502, revise Table 1 entry “Administrator, Southeast Region” to read as follows:

§ 600.502 Vessel reports.

* * * * *

Table 1 to § 600.502—Addresses
NMFS regional administrators | NMFS science and research directors | U.S. Coast Guard commanders
* * * * * * *
Administrator, Southeast Region, National Marine Fisheries Service, 263 13th Ave., South, St. Petersburg, FL 33701 | Director, Southeast Fisheries Science Center, National Marine Fisheries Service, NOAA, 75 Virginia Beach Drive, Miami, FL 33701 | Commander, Atlantic Area, U.S. Coast Guard, Governor's Island, New York 10004.
* * * * * * *

* * * * *

PART 622—FISHERIES OF THE CARIBBEAN, GULF, AND SOUTH ATLANTIC

3. The authority citation for part 622 continues to read as follows:

Authority: 16 U.S.C. 1801 et seq.

4. In § 622.39, paragraph (d)(1)(vii) is revised to read as follows:

§ 622.39 Bag and possession limits.

* * * * *

(d) * * *

(1) * * *

(vii) Black sea bass—5.

* * * * *

5. In § 622.42, paragraph (e)(5) is revised to read as follows:

§ 622.42 Quotas.

* * * * *

(e) * * *

(5) Black sea bass. (i) For the period June through November each year—128,547 lb (58,308 kg).

(ii) For the period December through May each year—180,453 lb (81,852 kg).

(iii) Any unused portion of the quota specified in paragraph (e)(5)(i) of this section will be added to the quota specified in paragraph (e)(5)(ii) of this section. Any unused portion of the quota specified in paragraph (e)(5)(ii) of this section, including any addition of quota specified in paragraph (e)(5)(i) of this section that was unused, will become void and will not be added to any subsequent quota.

* * * * *

6. In § 622.44, the first sentence of paragraph (c)(5) is revised and paragraphs (c)(6) and (c)(7) are added to read as follows:

§ 622.44 Commercial trip limits.

* * * * *

(c) * * *

(5) Greater amberjack. Until the quota specified in § 622.42(e)(3) is reached—1,200 lb (544 kg). * * *

(6) Vermilion snapper. Until either quota specified in § 622.42(e)(4)(i) or (ii) is reached—1,500 lb (680 kg). See § 622.43(a)(5) for the limitations regarding vermilion snapper after either quota is reached.

(7) Gag. Until the quota specified in § 622.42(e)(7) is reached—1,000 lb (454 kg). See § 622.43(a)(5) for the limitations regarding gag after the quota is reached.

* * * * *

[FR Doc. 2011-10488 Filed 4-28-11; 8:45 am]

BILLING CODE 3510-22-P